DEPARTMENT OF LABOR

Employment and Training Administration

[TA-W-39,619]

Converse, Inc. Currently Known as CVEO Corp. Charlotte, NC; Amended Certification Regarding Eligibility To Apply for Worker Adjustment Assistance

In accordance with section 223 of the Trade Act of 1974 (19 USC 2273) the Department of Labor issued a Certification of Eligibility to Apply for Worker Adjustment Assistance on November 28, 2001, applicable to workers of converse, Inc., Charlotte, North Carolina. The notice was published in the Federal Register on December 18, 2001 (66 FR 65220).

At the request of the company, the Department reviewed the certification for workers of the subject firm. The workers are engaged in employment related to the distribution of canvas and rubber athletic footwear.

New information received from the company shows that in May, 2001, Converse, Inc. became known as CVEO Corp. Information also shows that some workers separated from employment at Converse, Inc. had their wages reported under a separate unemployment insurance (UI) tax account for CVEO Corp.

Accordingly, the Department is amending the certification to properly reflect this matter.

The amended notice applicable to TA-W-39, 619 is hereby issued as follows:

All workers Converse, Inc., currently known as CVEO Corp. Charlotte, North Carolina who became totally or partially separated from employment on or after June 25, 2000, through November 28, 2003 are eligible to apply for adjustment assistance under section 223 of the Trade Act of 1974.

Signed at Washington, DC, this 8th day of January, 2002.
Linda G. Poole,
Certifying Officer, Division of Trade Adjustment Assistance.

[FR Doc. 02-2349 Filed 1-30-02; 8:45 am]

BILLING CODE 4510-30-M